SMALL BUSINESS ADMINISTRATION

[Disaster Declaration #15882 and #15883; TEXAS Disaster Number TX-00513]

Presidential Declaration Amendment of a Major Disaster for Public Assistance Only for the State of Texas

AGENCY: U.S. Small Business Administration.

ACTION: Amendment 1.

SUMMARY: This is an amendment of the Presidential declaration of a major disaster for Public Assistance Only for the State of Texas (FEMA-4416-DR), dated 02/25/2019.

Incident: Severe Storms and Floods.

Incident Period: 09/10/2018 through 11/02/2018.

DATES: Issued on 03/30/2019.

Physical Loan Application Deadline Date: 04/26/2019.

Economic Injury (EIDL) Loan Application Deadline Date: 11/25/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Texas, dated 02/25/2019, is hereby amended to include the following areas as adversely affected by the disaster.

Primary Counties: Polk, Schleicher, Walker.

All other information in the original declaration remains unchanged.

(Catalog of Federal Domestic Assistance Number 59008)

James Rivera,
Associate Administrator for Disaster Assistance.

[FR Doc. 2019-06671 Filed 4-4-19; 8:45 am]

BILLING CODE 8025-01-P